NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities will hold eight meetings of the Humanities Panel, a federal advisory committee, during October 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 11, 2018.

This meeting will discuss applications on the topic of U.S. History, for the Humanities Collections and Reference Resources grant program, submitted to the Division of Preservation and Access.

2. Date: October 15, 2018.

This meeting will discuss applications on the topic of American Studies (Media), for the Humanities Collections and Reference Resources grant program, submitted to the Division of Preservation and Access.

3. Date: October 16, 2018.

This meeting will discuss applications on the topic of Literature, for the Humanities Collections and Reference Resources grant program, submitted to the Division of Preservation and Access.

4. Date: October 18, 2018.

This meeting will discuss applications on the topic of U.S. History (Regional, State, and Local), for the Humanities Collections and Reference Resources grant program, submitted to the Division of Preservation and Access.

5. Date: October 25, 2018.

This meeting will discuss applications on the topic of American Studies (Folkways and Popular Culture), for the Humanities Collections and Reference Resources grant program, submitted to the Division of Preservation and Access.

6. Date: October 30, 2018.

This meeting will discuss applications on the topic of Art History, for the Humanities Collections and Reference Resources grant program, submitted to the Division of Preservation and Access.

7. Date: October 30, 2018.

This meeting will discuss applications on the topics of Global History, Social Sciences, and East Asian Literature, for the Kluge Fellowships, submitted to the Division of Research Programs.

8. Date: October 31, 2018.

This meeting will discuss applications on the topics of Literature, Arts, and Ancient to Early Modern History, for the Kluge Fellowships, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: September 5, 2018.
Elizabeth Voyatzis,
Committee Management Officer, National Endowment for the Humanities.

[FR Doc. 2018-19589 Filed 9-7-18; 8:45 am]

BILLING CODE 7536-01-P